DEPARTMENT OF DEFENSE

Office of the Secretary

[Docket ID: DoD-2023-OS-0077]

Privacy Act of 1974; System of Records

AGENCY: Department of Defense (DoD).

ACTION: Notice of a modified system of records.

SUMMARY: In accordance with the Privacy Act of 1974, the DoD is modifying and reissuing a current Department-wide system of records titled, “Defense Reasonable Accommodation and Assistive Technology Records,” DoD-0007. This system of records was originally established to collect and maintain records concerning DoD civilian employees and other members of the public requesting or receiving disability-related accommodations. Additionally, this system was established to collect and maintain records concerning wounded, ill and injured Service members on Active Duty requesting or receiving assistive technology solutions. These accommodations, which relate to enabling civilian employees, members of the public, and certain Service members to access DoD employment, systems, facilities, and programs are hereafter referred to collectively as “accessibility accommodations.” This SORN is being updated to expand coverage to DoD civilian and military personnel, and applicants for DoD employment, who request an exemption from generally applicable policies for reasons relating to individual medical conditions, religious beliefs or practices, or matters of conscience. The DoD is also modifying various other sections within the SORN to improve clarity or update information that has changed.

DATES: This modified system of records is effective upon publication; however, comments on the new or modified Routine Uses will be accepted on or before October 2, 2023. The Routine Uses are effective at the close of the comment period.

ADDRESSES: You may submit comments, identified by docket number and title, by any of the following methods:

* Federal Rulemaking Portal: https://www.regulations.gov.

Follow the instructions for submitting comments.

* Mail: Department of Defense, Office of the Assistant to the Secretary of Defense for Privacy, Civil Liberties, and Transparency, Regulatory Directorate, 4800 Mark Center Drive, Attn: Mailbox 24, Suite 08D09, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Rahwa Keleta, Privacy and Civil Liberties Division, Directorate for Privacy, Civil Liberties and Freedom of Information, Office of the Assistant to the Secretary of Defense for Privacy, Civil Liberties, and Transparency, Department of Defense, 4800 Mark Center Drive, Mailbox #24, Suite 08D09, Alexandria, VA 22350-1700, OSD.DPCLTD@mail.mil; (703) 571-0070.

SUPPLEMENTARY INFORMATION: Concurrently in today's issue of the Federal Register, DoD is publishing a technical amendment to correct an error in the Privacy Act exemption rule published for this system of records. The exemption rule at 32 CFR 310.13(e)(6) (July 22, 2021, 86 FR 38560) erroneously claims an exemption for this system of records from 5 U.S.C. 552a(c)(4), which generally requires the agency maintaining the system of records to inform recipients with whom it has shared a record if later the record was corrected or disputed pursuant to the requirements of 5 U.S.C. 552a(d). DoD's inclusion of subsection 552a(c)(4) was an error and DoD is removing it from the section of this notice entitled “Exemptions Promulgated for this System” and from the exemption rule.

I. Background

The DoD is updating the Defense Reasonable Accommodation and Assistive Technology Records SORN, DoD-0007, a DoD-wide Privacy Act system of records, to include records related to accessibility accommodations or exemptions from generally applicable policies for reasons relating to individual medical conditions, religious beliefs or practices, or matters of conscience. This SORN now expands coverage to civilian and military personnel, and applicants for DoD employment, who request an exemption from generally applicable policies for reasons relating to individual medical conditions, religious beliefs or practices, or matters of conscience.

Subject to public comment, the DoD proposes to add a new standard routine use I authorizing sharing in the context of Inspector General activities, and new routine use Q to allow for disclosure of religious information to authorized government officials for the purpose of making decisions and/or conducting an investigation into DoD's compliance with applicable laws, such as the Religious Freedom Restoration Act. The following sections of this SORN are also being modified: (1) the System Manager section to add an additional system manager; (2) the Authority for Maintenance of the System section to add additional authorities; (3) the Purpose of the System section to provide clarity on how the information will be used; (4) the Categories of Individuals Covered by the System section to expand the individuals covered; (5) the Categories of Records in the System section to clarify the different record types; (6) the Policies and Practices for Retention and Disposal of Records section to clarify the type of reasonable accommodation records; and (7) the Record Access Procedures section to clarify the DoD component's responsibilities under the Privacy Act.

DoD-0007 was originally established on July 22, 2021 (86 FR 38692) to support the receipt, review, and evaluation of requests made to DoD for reasonable accommodation(s), personal assistance services, or assistive technology solutions; the outcome of such requests; and the implementation of approved accommodations and personal assistance services. The original system of records was established to cover DoD civilian personnel and other individuals requesting or receiving reasonable accommodations or personal assistance services, and wounded, ill and injured Service members on Active Duty requesting or receiving assistive technology solutions.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, the DoD has provided a report of this system of records to OMB and to Congress.

Dated: August 24, 2023.
Aaron T. Siegel,
Alternate OSD Federal Register Liaison Officer, Department of Defense.

SYSTEM NAME AND NUMBER:

Defense Reasonable Accommodations and Assistive Technology Records, DoD-0007.

SECURITY CLASSIFICATION:

Unclassified and Classified.

SYSTEM LOCATION:

Department of Defense (Department or DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGER(S):

The system managers are as follows:

A. Assistant Secretary of Defense for Manpower and Reserve Affairs, Office of the Under Secretary of Defense (Personnel & Readiness), 4000 Defense Pentagon, Washington, DC 20301-4000, whsmc-alex.esd.mbx.osd-js-foia-requester-service-center@mail.mil.

B. Deputy Director, Computer/Electronic Accommodations Program, Defense Human Resources Activity (DHRA), 4800 Mark Center Drive, Suite 05E22, Alexandria, VA 22350-4100, cap@mail.mil.

C. For the Department of the Army: Deputy Assistant Secretary of the Army, Command & Leadership Policy and Programs Division, Equity and Inclusion Agency, Department of the Army, 1000 Defense, Pentagon, Washington, DC 20301-1100, usarmy.belvoir.hqda-oaa-ahs.mbx.rmda-foia-public-liaison@mail.mil.

D. For the Department of the Air Force: Director, AF Equal Opportunity, Headquarters Air Force Manpower Personnel and Services, Department of the Air Force, 1000 Defense, Pentagon, Washington, DC 20301-1100, usaf.pentagon.af-a1.mbx.a1q--workflow@mail.mil.

E. For the Department of the Navy: Chief of Naval Personnel, Navy Inclusion and Diversity, Department of the Navy, 701 South Courthouse Road, (Bldg. 12, Rm. 4R140), Arlington, VA 22204, DONFOIA-PA@navy.mil.

F. For the U.S. Marine Corps: Marine Corps Community Services (MCCS) Human Resources Program Manager, Business and Support Services Division (MRG), Headquarters, United States Marine Corps, 3044 Catlin Avenue, Quantico, VA 22134-5003 or by phone at 703-432-0433/0431.

G. The Privacy Act responsibilities concerning access, amendment, and disclosure of the records within this system of records have been delegated to the DoD components. DoD components include the Military Departments of the Army, Air Force (including the U.S. Space Force), and Navy (including the U.S. Marine Corps), field operating agencies, major commands, field commands, installations, and activities. To contact the system managers at the DoD component with oversight of the records, go to www.FOIA.gov to locate the contact information for each component's Freedom of Information Act (FOIA) office.

AUTHORITY FOR MAINTENANCE OF THE SYSTEM:

10 U.S.C. 113, Secretary of Defense; 10 U.S.C. 136, Under Secretary of Defense for Personnel and Readiness; 10 U.S.C. 1582, Assistive Technology, Assistive Technology Devices, and Assistive Technology Services; 10 U.S.C. 7013, Secretary of the Army; 10 U.S.C. 8013, Secretary of the Navy; 10 U.S.C. 9013, Secretary of the Air Force; 29 U.S.C. 791, Employment of Individuals with Disabilities; 29 U.S.C. 794, Nondiscrimination under Federal grants and programs; 29 U.S.C. 794d, Electronic and Information Technology; 42 U.S.C. Chapter 21B, Religious Freedom Restoration; 42 U.S.C. Chapter 21, Subchapter VI, Title VII of the Civil Rights Act; Executive Order 14035, Diversity, Equity, Inclusion, and Accessibility in the Federal Workforce; Executive Order 13985, Advancing Racial Equity and Support for Underserved Communities Through the Federal Government; E.O. 14043, Requiring Coronavirus Disease 2019 Vaccination for Federal Employees (revoked by E.O. 14099, Executive Order on Moving Beyond COVID-19 Vaccination Requirements for Federal Workers); 29 CFR 1605.2, Reasonable Accommodation without undue hardship as required by section 701(j) of title VII of the Civil Rights Act of 1964; 29 CFR 1614.203, Rehabilitation Act; DoD Directive 1020.1, Nondiscrimination on the Basis of Handicap in Programs and Activities Assisted or Conducted by the Department of Defense; DoD Instruction (DoDI) 6025.22, Assistive Technology (AT) for Wounded, Ill, and Injured Service Members; DoDI 1300.17, Religious Liberty In the Military Services; and DoDI 1304.28, The Appointment and Service of Chaplains.

PURPOSE(S) OF THE SYSTEM:

A. To support the receipt, review, and evaluation of requests made to DoD for reasonable accommodations which relate to enabling DoD civilian employees, members of the public, and wounded, ill and injured Service members on Active Duty to access DoD employment opportunities, information technology systems, facilities, and programs, hereafter referred to collectively as “accessibility accommodations.”

B. To support the receipt, review, and evaluation of requests made to DoD for exemption from generally applicable policies for reasons relating to individual medical conditions, religious beliefs or practices, or matters of conscience, from DoD civilian and military personnel and applicants for DoD employment.

C. To support the operation of the DoD Computer/Electronic Accommodations Program (CAP) within DoD and at CAP-partnering organizations and Federal entities.

D. To support the tracking of the outcome of such requests, and the implementation of approved accommodations and exemptions. To track performance regarding the provision of accommodations by the Department and/or components.

CATEGORIES OF INDIVIDUALS COVERED BY THE SYSTEM:

A. Individuals who are seeking “accessibility accommodations,” which relate to enabling civilian employees, members of the public, and wounded, ill, or injured Service members on Active Duty to access DoD employment, systems, facilities, and programs.

B. DoD military and civilian personnel, to include non-appropriated fund employees and the DoD personnel employed or assigned outside of the contiguous United States hires, also known as local national employees, and applicants for employment who are seeking an exemption from generally applicable policies for reasons relating to individual medical conditions, religious beliefs or practices, or matters of conscience.

C. Individuals participating in the DoD Computer/Electronic Accommodations Program (CAP) (including employees of CAP-partnering organizations and Federal entities).

D. Other individuals affiliated with the DoD who make accommodation requests covered by this system of records.

CATEGORIES OF RECORDS IN THE SYSTEM:

Records in this system include information regarding individuals requesting accessibility accommodations or exemptions (requesters) from generally applicable policies for reasons relating to individual medical conditions, religious beliefs or practices, or matters of conscience. Records include:

A. Personal and work-related information, such as name, DoD ID number, status (applicant or current employee), address(es), phone, email, official duty telephone number, occupational series, grade level, religious information, medical information, worker compensation claims number, date request was initiated, supervisor's name and phone number.

B. Requests for accommodation or exemption and the reason(s) the accommodation or exemption is requested, such as supporting documentation and related materials that substantiate the request, type(s) of accommodation or exemption requested, type(s) of accommodation or exemption provided, how the requested accommodation or exemption would assist or impact job performance, and the sources of technical assistance consulted in trying to identify a possible accommodation or exemption, documents detailing the final decision for the requested accommodation or exemption, appeals, claims, and complaints.

C. Information about religious belief, practice, or observance which serves as the basis for an accommodation or exemption request.

D. Specific information regarding the condition which serves as the basis for an accommodation or exemption request, including but not limited to the characteristics of impairment, job function difficulties, current limitation(s), past accommodation(s), specific accommodation(s), permanent or temporary nature of condition(s), major life activities impacted by the condition, and duration of condition.

E. Any other documentation, including religious or medical documentation, which serves as the basis for the accommodation or exemption request and the documents detailing the decision concerning the request, appeals, claims, and complaints.

F. Information about assistive devices and technology evaluated or selected; prior assistive solutions provided to the individual; vendor information; and acquisition or modification data.

G. Records associated with personal assistance services provided to individuals with targeted disabilities assistance.

RECORD SOURCE CATEGORIES:

Records and information stored in this system of records are obtained from individuals requesting accessibility accommodations and/or exemption from generally applicable policies for reasons relating to individual medical conditions, religious beliefs or practices, or matters of conscience. This may include the individual to whom the requested accommodation or exemption pertains, rehabilitation counselors, healthcare providers, and DoD personnel who participate in the receipt, evaluation, review, decision, and implementation of reasonable accommodation requests, such as hiring officials, human resource officials, supervisors and managers, reasonable accommodation officials, review panels, attorneys, and deciding officials. It may also include organizations or Federal entities that participate in the DoD CAP.

ROUTINE USES OF RECORDS MAINTAINED IN THE SYSTEM, INCLUDING CATEGORIES OF USERS AND PURPOSES OF SUCH USES:

Note: Medical information collected in support of the reasonable accommodation process is subject to confidentiality requirements. Medical information may be shared within the DoD only on an as-needed basis for purposes of resolving and implementing requests for reasonable accommodations and assistive technology solutions, in accordance with applicable law.

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection evaluation, or other review as authorized by the Inspector General Act.

J. To such recipients and under such circumstances and procedures as are mandated by Federal statute, treaty.

K. To an authorized appeal grievance examiner, formal complaints examiner, administrative judge, equal employment opportunity investigator, arbitrator or other duly authorized official engaged in investigation or settlement of a grievance, complaint, or appeal filed by an employee.

L. Disclosure of medical condition or history information to authorized government officials for the purpose of conducting an investigation into DoD's compliance with the Rehabilitation Act.

M. Disclosure of medical condition or history information to first aid and safety personnel in the event an employee's medical condition might require emergency treatment or special procedures.

N. To Federal agencies/entities participating in the DoD CAP to permit the agency to carry out its responsibilities under the program.

O. To commercial vendors to permit the vendor to identify and provide assistive technology solutions for individuals with disabilities.

P. To any agency, organization, or person for the purposes of performing audit or oversight activities related to the operation of this system of records as authorized by law, but only information necessary and relevant to such audit or oversight function.

Q. Disclosure of religious information to authorized government officials for the purpose of making decisions and/or conducting an investigation into DoD's compliance with applicable laws, such as the Religious Freedom Restoration Act.

POLICIES AND PRACTICES FOR STORAGE OF RECORDS:

Records may be stored electronically or on paper in secure facilities in a locked drawer behind a locked door. Electronic records may be stored locally on digital media; in agency-owned cloud environments; or in vendor Cloud Service Offerings certified under the Federal Risk and Authorization Management Program (FedRAMP).

POLICIES AND PRACTICES FOR RETRIEVAL OF RECORDS:

Records may be retrieved by requester name, DoD ID number, office/workstation address, bureau/office, assigned case tracking number, and disability accommodation request date.

POLICIES AND PRACTICES FOR RETENTION AND DISPOSAL OF RECORDS:

General Records Schedule 2.3 provides that reasonable accommodation case files are retained for at least three years after employee separation from the agency or all appeals are concluded, whichever is later. If an individual files a claim of disability or religious discrimination or another claim premised on the Constitution, federal statute, or other legal authority, or an action is brought by the Equal Employment Opportunity Commission or other relevant enforcement entity, all personnel records related to the claim will be retained until final disposition.

ADMINISTRATIVE, TECHNICAL, AND PHYSICAL SAFEGUARDS:

The DoD safeguards records in this system of records according to applicable rules, policies, and procedures, including all applicable DoD automated systems security and access policies. DoD policies require the use of controls to minimize the risk of compromise of personally identifiable information (PII) in paper and electronic form and to enforce access by those with a need to know and with appropriate clearances. Additionally, the DoD has established security audit and accountability policies and procedures which support the safeguarding of PII and detection of potential PII incidents. The DoD routinely employs safeguards such as the following to information systems and paper recordkeeping systems: Multifactor log-in authentication including Common Access Card (CAC) authentication and password; physical token as required; physical and technological access controls governing access to data; network encryption to protect data transmitted over the network; disk encryption securing disks storing data; key management services to safeguard encryption keys; masking of sensitive data as practicable; mandatory information assurance and privacy training for individuals who will have access; identification, marking, and safeguarding of PII; physical access safeguards including multifactor identification physical access controls, detection and electronic alert systems for access to servers and other network infrastructure; and electronic intrusion detection systems in DoD facilities.

Custodians of medical records in this system of records must have the ability to protect this information from being accessed or accessible by others without a need to know. This may involve providing custodians with access to dedicated machines for copying, printing, or faxing; dedicated, secure file storage; and temporary or permanent workspaces where telephone conversations cannot be overheard by those without a need to know.

RECORD ACCESS PROCEDURES:

Individuals seeking access to their records should follow the procedures in 32 CFR part 310. Individuals should address written inquiries to the DoD component or office with oversight of the records, as it has Privacy Act responsibilities concerning access, amendment, and disclosure of the records within this system of records. The public may identify the contact information for the appropriate DoD office through the following website: www.FOIA.gov. Signed written requests should contain the name and number of this system of records notice along with the full name, current address, and email address. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

Individuals seeking to amend or correct the content of records about them should follow the procedures in 32 CFR part 310.

NOTIFICATION PROCEDURES:

Individuals seeking to determine whether information about themselves is contained in this system of records should follow the instructions for Record Access Procedures above.

EXEMPTIONS PROMULGATED FOR THE SYSTEM:

The DoD has exempted records maintained in this system from 5 U.S.C. 552a(c)(3); (d)(1), (2), (3), and (4); (e)(4)(G), (H), and (I); and (f) pursuant to 5 U.S.C. 552a(k)(1). In addition, when exempt records received from other systems of records become part of this system, DoD also claims the same exemptions for those records that are claimed for the prior system(s) of records of which they were a part, and claims any additional exemptions set forth here. An exemption rule for this system has been promulgated in accordance with requirements of 5 U.S.C. 553(b)(1), (2), and (3), (c), and (e), and published in 32 CFR part 310.

HISTORY:

July 22, 2021, 86 FR 38692.

[FR Doc. 2023-18687 Filed 8-30-23; 8:45 am]

BILLING CODE 5001-06-P